DEPARTMENT OF HEALTH AND HUMAN SERVICES

National Institutes of Health

Center for Scientific Review; Amended Notice of Meeting

Notice is hereby given of a change in the meeting of the Center for Scientific Review Special Emphasis Panel, July 22, 2013, 8:00 a.m. to July 23, 2013, 5:00 p.m., National Institutes of Health, 6701 Rockledge Drive, Bethesda, MD, 20892 which was published in the Federal Register on June 28, 2013, 78 FR Page 38999.

The meeting will be held on August 7-8 2013 instead of July 22-23 2013 at 8:00 a.m. and will end at 5:00 p.m. The meeting location remains the same. The meeting is closed to the public.

Dated: July 17, 2013.
David Clary,
Program Analyst, Office of Federal Advisory Committee Policy.

[FR Doc. 2013-17695 Filed 7-23-13; 8:45 am]

BILLING CODE 4140-01-P